DEPARTMENT OF ENERGY

Federal Energy Regulatory Commission

[Project No. 8005-006]

Moomaws Dam Hydroelectric Corporation, Columbia Mills Hydroelectric Limited Partnership; Notice of Transfer of Exemption

1. By letter filed April 26, 2017, Moomaws Dam Hydroelectric Corporation informed the Commission that the exemption from licensing for the Moomaws Dam Hydroelectric Project No. 8005, originally issued June 21, 1984 ¹ has been transferred to the Columbia Mills Hydroelectric Limited Partnership. The project is located on the Maury River in Rockbridge County, Virginia. The transfer of an exemption does not require Commission approval.

¹ Order Granting Exemption from Licensing of a Small Project of 5 Megawatts or Less. Rockfish Corporation, Inc., 27 FERC ¶ 62,331 (1984).

2. Columbia Mills Hydroelectric Limited Partnership is now the exemptee of the Moomaws Dam Hydroelectric Project No. 8005. All correspondence should be forwarded to: Mr. Gregory Cloutier, President and Mr. William Allin, Vice President, Columbia Mills Hydroelectric Limited Partnership, c/o Powerhouse Systems, Inc., 80A Elm Street, Lancaster, NH 03584, Phone: 603-443-7610, Email: watrpwr@gmail.com.

Dated: June 1, 2017.
Kimberly D. Bose,
Secretary.

[FR Doc. 2017-11763 Filed 6-6-17; 8:45 am]

BILLING CODE 6717-01-P